DEPARTMENT OF HEALTH AND HUMAN SERVICES

Office of the Secretary

[Document Identifier: OS-0937-0166; 30-day notice]

Agency Information Collection Activities: Proposed Collection; Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Regular Clearance, Extension of a currently approved collection.

Title of Information Collection: 42 CFR Subpart B: Sterilization of Persons in Federally Asssisted Family Planning Projects.

Form/OMB No.: OS-0937-0166.

Use: This is a request for an extension, of a currently approved collection for the disclosure and record-keeping requirements codified at 42 CFR part 50, subpart B (``Sterilization of Persons in Federally Assisted Family Planning Projects''). A copy of the Public Health Service (PHS) regulation, 42 CFR part 50, subpart B, is provided in Attachment B. Consent forms are signed by individuals undergoing a federally funded sterilization procedure and certified by necessary medical authorities. Forms are incorporated into the patient's medical records and the agency's records. Through periodic site audits and visits, PHS staff review completed consent forms to determine compliance with the regulation. Thus, the purpose of the consent form is twofold. First, it serves as a mechanism to ensure that a person receives information about sterilization and voluntarily consents to the procedure. Second, it facilitates compliance monitoring.

Frequency: Recordkeeping; Reporting, on occasion.

Affected Public: Individuals or Households, Not-for-profit institutions, and State, Local or Tribal Government.

Annual Number of Respondents: 100000.

Total Annual Responses: 10000.

Average Burden Hours Per Response: 1 hours and 15 minutes.

Total Annual Hours: 125,000.

To obtain copies of the supporting statement and any related forms for the proposed paperwork collections referenced above, access the HHS Web site address at http://www.hhs.gov/ocio/infocollect/pending/ or e-mail your request, including your address, phone number, OMB number, and OS document identifier, to Sherette.funncoleman@hhs.gov, or call the Reports Clearance Office on (202) 690-6162. Written comments and recommendations for the proposed information collections must be received within 30 days of this notice directly to the Desk Officer at the address below: OMB Desk Officer: John Kraemer, OMB Human Resources and Housing Branch, Attention: (OMB #0937-0166), New Executive Office Building, Room 10235, Washington DC 20503.

Dated: July 25, 2006.
Robert E. Polson,
Office of the Secretary, Paperwork Reduction Act Reports Clearance Officer.

[FR Doc. E6-12561 Filed 8-2-06; 8:45 am]

BILLING CODE 4150-28-P